DEPARTMENT OF TRANSPORTATION

Federal Highway Administration

Notice of Final Federal Agency Actions on Proposed Highway in Minnesota

AGENCY: Federal Highway Administration (FHWA), DOT.

ACTION: Notice of Statute of Limitations on Claims for Judicial Review of Actions by FHWA and Other Federal Agencies.

SUMMARY: This notice announces actions taken by the FHWA and other Federal agencies that are final within the meaning of 23 U.S.C. 139(l)(1). The actions relate to a proposed highway project on a 3.5 mile combined segment of Trunk Highway (TH) 23 and U.S. Highway 71. The proposed project is from the TH 294 and TH 23/71 divergence on the south to the divergence of the TH 23 and U.S. Highway 71 on the north in Dovre Township, northeast of Willmar, Minnesota in Kandlyohi County. The proposed improvements include grade-separated interchanges at a relocated County Road 90 and at County State Aid Highway 25, median and driveway closures, and new or reconstructed segments of local frontage roads. Those actions grant approvals for the project.

DATES: By this notice, the FHWA is advising the public of final agency actions subject to 23 U.S.C. 139(l)(1). A claim seeking judicial review of the Federal agency actions of the proposed highway project will be barred unless the claim is filed within 180 days from the date this notice is published in the Federal Register. If the Federal law that authorizes judicial review of a claim provides a time period of less than 180 days for filing such a claim, than that shorter time period still applies.

FOR FURTHER INFORMATION CONTACT: For FHWA: Mr. Derrell Turner, Division Administrator, Federal Highway Administration, 380 Jackson Street, Suite 500, Saint Paul, MN 55101, Telephone (651) 291-6100, e-mail: Derrell.turner@dot.gov. The Minnesota Division Office's normal business hours at 7:30 a.m. to 4 p.m. (Central Time). For the Minnesota Department of Transportation (Mn/DOT): Mr. Lowell Flaten, PE, Project Manager, District 8, 2505 Transportation Road, Willmar, MN 56201, Telephone: (320) 214-6367, e-mail: Lowell.Flaten@state.mn.us. The Mn/DOT District 8 normal business hours are 8 a.m. to 4:30 p.m (Central Time).

SUPPLEMENTARY INFORMATION: Notice is hereby given that the FHWA and other Federal agencies have taken final agency actions by issuing approvals for the following highway project in Minnesota: TH 23/71 from the TH 294 and TH 23/71 divergence on the south to the divergence of the TH 23 and U.S. Highway 71 on the north in Dovre Township, northeast of Willmar, Minnesota. The project is located in Kandiyohi County. A Record of Decision (ROD) for this 3.5-mile section of the TH 23/71 corridor was signed by FHWA on November 9, 2010.

This notice applies to all Federal agency decisions as of the issuance date of this notice and all laws under which such actions were taken, including but not limited to:

1. General: National Environmental Policy Act (NEPA) [42 U.S.C. 4321-4351]; Federal-Aid Highway Act [23 U.S.C. 109].

2. Land: Section 4(f) of the Department of Transportation Act of 1966 [49 U.S.C. 303]; Landscaping and Scenic Enhancement (Wildflowers) [23 U.S.C. 319].

3. Wildlife: Endangered Species Act [16 U.S.C. 1531-1544 and Section 1536]; Fish and Wildlife coordination Act [15 U.S.C. 661-667(d)]; Migratory Bird Treaty Act [16 U.S.C. 703-712].

4. Historic and Cultural Resources: Section 106 of the National Historic Preservation Act of 1966, as amended [16 U.S.C. 470(f) et seq.]; Archaeological and Historic Preservation Act [16 U.S.C. 469-469(c)].

5. Social and Economic: Civil Rights Act of 1964 [42 U.S.C. 2000(d)-2000(d)(1)]; Farmland Policy Protection Act (FPPA) [7 U.S.C. 4201-4209].

6. Safe Drinking Water Act (SDWA) [42 U.S.C. 300(f)-300(j)(6)]; Flood Disaster Protection Act [42 U.S.C. 4001-4128].

7. Executive Orders: E.O. 11990, Protection of Wetlands; E.O. 11988, Floodplain Management; E.O. 12898, Federal Actions to Address Environmental Justice in Minority and Low Income Populations; E.O. 11593, Protection and Enhancement of Cultural Resources; E.O. 13007, Indian Sacred Sites; E.O. 13287, Preserve America; E.O. 13175, Consultation and Coordination with Indian Tribal Governments; E.O. 11514, Protection and Enhancement of Environmental Quality; E.O. 13112, Invasive Species.

(Catalog of Federal Domestic Assistance Program Number 20.20S, Highway Planning and Construction. The regulations implementing Executive Order 12372 regarding intergovernmental consultation on Federal programs and activities apply to this program.)

Authority: 23 U.S.C. 139(l)(1).

Issued on: December 29, 2010.
Derrell Turner,
Division Administrator, Federal Highway Administration, Saint Paul, Minnesota.

[FR Doc. 2011-735 Filed 1-14-11; 8:45 am]

BILLING CODE M